SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions to and an extension of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov;

(SSA), Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than April 15, 2011. Individuals can obtain copies of the collection instruments by calling the SSA Reports Clearance Officer at 410-965-8783 or by writing to the above e-mail address.

1. Medicare Modernization Act Outreach Mailer—20 CFR 418—0960-0773. To promote awareness of the Medicare Part D subsidy program and encourage potentially eligible Medicare beneficiaries to complete Form SSA-1020 (OMB No. 0960-0696, the Application for Extra Help with Medicare Prescription Drug Plan Costs), SSA uses an outreach brochure that includes a mailer. Pharmacies, doctors' offices, and medical clinics display and distribute copies of the brochure/mailer to encourage eligible Medicare beneficiaries to request and complete Form SSA-1020. Using a recorded, automated message telephone call that will not require any conversation with respondents, SSA follows up with beneficiaries who use the mailer to request an SSA-1020 but do not submit it to the agency. The respondents are Medicare beneficiaries who are potentially eligible for Part D subsidy benefits and who request a copy of Form SSA-1020, using the SSA-1023 mailer.

Type of Request: Revision of an OMB-approved information collection.

Number of Respondents: 75,000.

Frequency of Response: 1.

Average Burden Per Response: 1 minute.

Estimated Annual Burden: 1,250.

2. Medicare Income-Related Monthly Adjustment Amount—Life-Changing Event Form—0960-0784. Per the Medicare Modernization Act of 2003, reductions in the Federal subsidy for Medicare medical coverage (Medicare Part B) result in selected Medicare Part B recipients paying an income-related monthly adjustment amount (IRMAA). The Internal Revenue Service transmits income tax return data to SSA for SSA to determine the IRMAA. SSA uses Form SSA-44 to determine if a recipient qualifies for a reduction in the IRMAA. If affected Medicare recipients believe SSA should use more recent tax data because of a life-changing event that significantly reduces their income, they can report these changes to SSA and ask for a new initial determination of their IRMAA.

In November 2010, we requested emergency OMB clearance for a new SSA-44 to fulfill the provisions of the Affordable Care Act (Pub. L. 111-148), which mandates reductions in the Federal Medicare Part D prescription drug coverage subsidies, resulting in higher premiums for those who have this coverage and who have income above a specific threshold. The provisions of the law became effective January 1, 2011, and we obtained emergency clearance for this form on November 23, 2010. We are now seeking full OMB clearance for this form. The respondents are Medicare Part B and prescription drug coverage recipients and enrollees with modified adjusted gross income over a high-income threshold who experience one of the eight significant life-changing events.

Type of Request: Extension of an OMB-approved information collection.

Method of collection | Number of respondents | Frequency of response | Average burden per response (minutes) | Estimated annual burden (hours)
Personal Interview (SSA field office) | 147,000 | 1 | 30 | 73,500
Paper Form (mailed) | 39,000 | 1 | 45 | 29,250
Totals | 186,000 |  |  | 102,750

II. SSA has submitted the information collection listed below to OMB for clearance. Your comments on the information collection would be most useful if OMB and SSA receive them within 30 days from the date of this publication. To be sure we consider your comments, we must receive them no later than March 16, 2011. You can obtain a copy of the OMB clearance package by calling the SSA Reports Clearance Officer at 410-965-8783 or by writing to the above e-mail address.

State Death Match Collections—20 CFR 404.301, 404.310-404.311, 404.316, 404.330-404-341, 404.350-404.352, 404.371; 416.912—0960-0700. SSA uses the State Death Match Collections to ensure the accuracy of payment files by detecting unreported or inaccurate deaths of beneficiaries. Under the Social Security Act, entitlement to retirement, disability, wife's, husband's, or parent's benefits terminate when the beneficiary dies. The States furnish death certificate information to SSA via the manual registration process or the Electronic Death Registration (EDR) process. Both death match processes are automated electronic transfers between the States and SSA. The respondents are the States' bureaus of vital statistics.

Method of collection | Number of respondents | Frequency of responses (per state) | Average cost per record request | Estimated annual cost burden
State Death Match—Manual Process | 23 | 50,000 | .80 | $920,000
State Death Match—EDR | 30 | 50,000 | 2.86 | 4,290,000
Totals |  |  |  | *5,210,000
* Please note that both data matching processes are fully electronic and there is no hourly burden for the respondent to provide this information.

Dated: February 8, 2011.
Faye Lipsky,
Reports Clearance Officer, Center for Reports Clearance, Social Security Administration.

[FR Doc. 2011-3171 Filed 2-11-11; 8:45 am]

BILLING CODE 4191-02-P